DEPARTMENT OF COMMERCE

National Oceanic and Atmospheric Administration

50 CFR Part 660

[I.D. 021505A]

Fisheries off West Coast States and in the Western Pacific; Western Pacific Crustacean Fisheries; 2005 Bank-specific Harvest Guidelines

AGENCY: National Marine Fisheries Service (NMFS), National Oceanic and Atmospheric Administration (NOAA), Commerce.

ACTION: Notification of no harvest guideline for crustaceans.

SUMMARY: NMFS announces that an annual harvest guideline for the commercial lobster fishery in the Northwestern Hawaiian Islands (NWHI) will not be issued for the year 2005.

FOR FURTHER INFORMATION CONTACT: Alvin Katekaru, NMFS Pacific Islands Regional Office, at (808)973-2937.

SUPPLEMENTARY INFORMATION: Under the regulations implementing the Fishery Management Plan for Crustacean Fisheries of the Western Pacific Region (Crustaceans FMP) at 50 CFR 660.50(b)(2), every year NMFS is required to publish a harvest guideline for lobster Permit Area 1, which encompasses the exclusive economic zone ( 0 to 200 nm from shore) around the NWHI. The fishery has been closed since 2000. This action is (a) taken as a precautionary measure to prevent overfishing of the lobster resources while NMFS conducts biological research and assessment on the lobster stocks; (b) in compliance with an order of the U.S. District Court for the District of Hawaii to keep the NWHI commercial lobster fishery closed until an environmental impact statement and a biological opinion have been prepared for the Crustaceans FMP; and (c) consistent with Executive Orders 13178 and 13196, issued in December 2000 and January 2001, respectively, that established the NWHI Coral Reef Ecosystem Reserve.

NMFS will not publish any harvest guideline for the NWHI commercial lobster fishery for the year 2005, and no harvest of NWHI lobster resources is allowed. NMFS intends to continue to study and assess the status of the lobster populations in the NWHI and examine the resulting information to determine the appropriate direction for future fishery management actions.

Authority: 16 U.S.C. 1801 et seq.

Dated: February 15, 2005.
Alan D. Risenhoover,
Acting Director, Office of Sustainable Fisheries, National Marine Fisheries Service.

[FR Doc. 05-3362 Filed 2-18-05; 8:45 am]

BILLING CODE 3510-22-S